DEPARTMENT OF THE INTERIOR

Bureau of Indian Affairs

25 CFR Parts 30, 37, 39, 42, 44, and 47

RIN 1076-AE49

Implementation of the No Child Left Behind Act of 2001; Correction

AGENCY: Bureau of Indian Affairs, Interior.

ACTION: Proposed rule; correction.

SUMMARY: The Bureau of Indian Affairs proposed a rulemaking to implement the No Child Left Behind Act of 2001 in the Federal Register of February 25, 2004 (67 FR 8752). The direct Internet response address given was in error. This action corrects that error.

FOR FURTHER INFORMATION CONTACT: Catherine Freels, Designated Federal Official, PO Box 1430, Albuquerque, NM 87103-1430; Phone: 505/248-7240; e-mail: efreels@bia.edu.

SUPPLEMENTARY INFORMATION: In the Federal Register document published on February 25, 2004, there was an error in the direct Internet response address. The Bureau of Indian Affairs is correcting the document as follows:

In proposed rule document (Federal Register document 04-3714) make the following correction:

On page 8752, in the first column, 17 lines from the bottom of the column, the direct Internet response address should read: “http://www.blm.gov/nhp/news/regulatory/index.htm.”

Dated: February 26, 2004.
David W. Anderson,
Assistant Secretary—Indian Affairs.

[FR Doc. 04-4695 Filed 3-3-04; 8:45 am]

BILLING CODE 4310-02-M